DEPARTMENT OF AGRICULTURE

Forest Service

Hood/Willamette Resource Advisory Committee (RAC) Meeting

AGENCY: Forest Service, USDA.

ACTION: Meeting.

SUMMARY: The Hood/Willamette Resource Advisory Committee (RAC) will meet on Friday, June 21, 2002. The meeting is scheduled to begin at 9 a.m. and will conclude at approximately 4 p.m. The meeting will be held at the Salem Office of the Bureau of Land Management Office; 1717 Fabry Road SE; Salem, Oregon; (503) 375-5646. The tentative agenda includes: (1) Report on status of 2002 projects; (2) decision on overhead rate for 2003 projects; (3) presentation of 2003 Projects; and (4) public forum.

The Public Forum is tentatively scheduled to begin at 11 p.m. Time allowed for individual presentations will be limited to 3-4 minutes. Written comments are encouraged, particularly if the material cannot be presented within the time limits for the Public Forum. Written comments may be submitted prior to the June 21st meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: May 15, 2002.
Y. Robert Iwamoto,
Acting Forest Supervisor.

[FR Doc. 02-13039 Filed 5-23-02; 8:45 am]

BILLING CODE 3410-11-M